DEPARTMENT OF ENERGY

Federal Energy Regulatory Commission

[Docket Nos. RP91-203-071 and RP92-132-059]

Tennessee Gas Pipeline Company; Notice of Compliance Filing

June 5, 2000.

Take notice that on May 31, 2000, Tennessee Gas Pipeline Company (Tennessee), tendered for filing certain revised tariff sheets for inclusion in Tennessee's FERC Gas Tariff, Fifth Revised Volume No. 1. Tennessee requests that the attached sheets be made effective July 1, 2000.

Tennessee states that pursuant to the May 15, 1995 comprehensive settlement agreement in the referenced proceeding, which resolved outstanding issues relating to Tennessee's recovery through rates of the costs of remediating polychlorinated biphenyl (“PCB”) and other hazardous substance list (“HSL”) contamination on its system (“Settlement”), Tennessee is seeking to extend the initial PCB adjustment period and to decrease the PCB adjustment surcharge amount to $0.00, all as provided for under the Settlement. Tennessee also states that although there are uncertainties attached to the PCH/HSL remediation project (“Project”), based on its best reasonable expectations to date, Tennessee may be able to complete the Project by the end of 2004.

Tennessee further states that the extended adjustment period is required under the Settlement to reflect additional eligible costs that Tennessee expects to expend to complete the Project. Tennessee also notes that its request to reduce the surcharge to $0.00 is meant to temporarily relieve its customers of the surcharge obligation while at the same time leaving the recovery mechanism intact if unforeseen circumstances arise.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action be taken, but will not serve to protestants parties to the proceedings. Copies of this filing are on file with the Commission and are available for public inspection in the Public Reference Room. This filing may be viewed on the web at http://www.ferc.fed.us/online/rims/htm (call 202-208-2222 for assistance).

David P. Boergers,
Secretary.

[FR Doc. 00-14554 Filed 6-8-00; 8:45 am]

BILLING CODE 6717-01-M